FEDERAL HOUSING FINANCE AGENCY

12 CFR Parts 1282

RIN 2590-AA65

2015-2017 Enterprise Housing Goals

Correction

In proposed rule document 2014-21118 appearing on pages 54482 through 54516 in the issue of Thursday, September 11, 2014, make the following corrections:

1. On page 54494, in table 2, in column number 2 “Goals”, the first entry corresponding with year “2013” should read “265,000”.

2. On page 54494, in table 3, in column number 2 “Goals”, the first entry corresponding with year “2013” should read “70,000”.

[FR Doc. C1-2014-21118 Filed 9-23-14; 8:45 am]

BILLING CODE 1505-01-D